GENERAL SERVICES ADMINISTRATION

41 CFR Parts 101-42 and 101-45

[FPMR-Amendment 2016-01; FPMR-TechAmdt-2016-01; Docket No. 2007-0001; Sequence No. 6]

Federal Property Management Regulations; Technical Amendments

AGENCY: Office of Government-wide Policy, General Services Administration (GSA).

ACTION: Final rule.

SUMMARY: GSA is amending the Federal Property Management Regulations (FPMR) to delete repetitive information that has already migrated to the Federal Management Regulation (FMR).

DATES: Effective: November 21, 2016.

FOR FURTHER INFORMATION CONTACT: Mr. Robert Holcombe, Director, Personal Property Policy, at 202-501-3828, or email robert.holcombe@gsa.gov for clarification of content. For information pertaining to the status or publication schedules, contact the Regulatory Secretariat Division (MVCB), 1800 F Street NW., Washington, DC 20405, or 202-501-4755. Please cite FPMR-Tech Amdt-2016-01; Technical Amendments.

SUPPLEMENTARY INFORMATION:

Background

GSA is amending the FPMR to make editorial changes to FPMR Parts 101-42 and 101-45. Sections therein should have been removed when the policy migrated from FPMR parts 101-42 and 101-45 (with regards to items requiring special handling) to FMR part 102-40.

GSA indicated in the preamble of FMR Change-2015-01; FPMR Case 2003-101-1; FMR Case 2003-102-4, which was published in the Federal Register at 80 FR 7352, on February 10, 2015, that these sections were migrating from the FPMR to the FMR; but the deletion of these superseded FPMR sections were not specifically enumerated in the list of changes to be made. The end result is that, as of today, there is overlapping policy in both the FPMR and the FMR and the remaining FPMR material is outdated and redundant. Therefore, to remove this duplicative information, GSA is issuing a technical correction to FMR Change-2015-01; FPMR Case 2003-101-1; FMR Case 2003-102-4.

List of Subjects in 41 CFR Part 101-42 and 101-45

Disposition of personal property with special handling requirements; sale, abandonment or destruction of personal property.

Dated: November 9, 2016.
Denise Turner Roth,
Administrator of General Services.

For the reasons set forth in the preamble, 41 CFR parts 101-42 and 101-45 is amended as follows:

PART 101-42—DISPOSITION OF PERSONAL PROPERTY WITH SPECIAL HANDLNG REQUIREMENTS

1. The authority for part 101-42 is revised to read as follows:

Authority: Sec. 205(c), 63 Stat. 390; 40 U.S.C. 486(c).

§ 101-42.001—101-42.1102-10 [Removed]

2. Remove sections 101-42.001 through 101-42.1102-10.

PART 101-45—SALE, ABANDONMENT, OR DESTRUCTION OF PERSONAL PROPERTY

3. The authority for part 101-45 continues to read as follows:

Authority: 40 U.S.C. 545 and 40 U.S.C. 121(c).

§ 101-45.001—101-45.004 [Removed]

4. Remove sections 101-45.001 through 101-45.004.

[FR Doc. 2016-28010 Filed 11-18-16; 8:45 am]

BILLING CODE 6820-14-P